DEPARTMENT OF HEALTH AND HUMAN SERVICES

Centers for Disease Control and Prevention

Healthcare Infection Control Practices Advisory Committee (HICPAC)

Correction: This notice was published in the Federal Register on October 11, 2007, Volume 72, Number 196, page 57947-57948. The Place should read as follows:

Place: Department of Health and Human Services Building, 395 E Street, SW., Suite 9100, Washington, DC 20201.

Contact Person for More Information: Angela B. Scott, Committee Management Specialist, HICPAC, Division of Healthcare Quality Promotion, NCPDCID, CDC, 1600 Clifton Road, N.E., Mailstop A 45, Atlanta, GA 30333. Telephone (404) 639-1526.

The Director, Management Analysis and Services Office, has been delegated the authority to sign Federal Register notices pertaining to announcements of meetings and other committee management activities, for both CDC and the Agency for Toxic Substances and Disease Registry.

Dated: October 15, 2007.
Elaine L. Baker,
Acting Director, Management Analysis and Services Office, Centers for Disease Control and Prevention.

[FR Doc. E7-20699 Filed 10-19-07; 8:45 am]

BILLING CODE 4163-18-P